DEPARTMENT OF DEFENSE

Office of the Secretary

Defense Science Board

AGENCY: Department of Defense.

ACTION: Notice of Advisory Committee meeting.

SUMMARY: The Defense Science Board Task Force on Improvised Devices (IEDs) will meet in closed session on June 23-24, 2005; July 26-27, 2005, at Strategic Analysis, Inc., 3601 Wilson Boulevard, Arlington, VA. The Task Force will explore methods and techniques to significantly reduce the effects of IEDs on U.S. and coalition forces in operations such as are currently being conducted in Operation Iraqi Freedom (OIF). The Task Force should examine ways to counter the use as well as mitigate the consequences of IEDs. The Task Force should examine ways to counter the use as well as mitigate the consequences of IEDs.

DATES: June 23-24, 2005, and July 26-27, 2005.

ADDRESSES: Strategic Analysis, Inc., 3601 Wilson Boulevard, Arlington, VA.

FOR FURTHER INFORMATION CONTACT: LTC Scott Dolgoff, USA, Defense Science Board, 3140 Defense Pentagon, Room 3D865, Washington, DC 20301-3140, via e-mail at scott.dolgoff@osd.mil, or via phone at (703) 695-4158.

SUPPLEMENTARY INFORMATION: The mission of the Defense Science Board is to advise the Secretary of Defense and the Under Secretary of Defense for Acquisition, Technology & Logistics on scientific and technical matters as they affect the perceived needs of the Department of Defense. At these meetings, the Defense Science Board Task Force will consider the entire spectrum of intervention objects, including deterrence, dissuasion, remote predetonation, remote disarming, elimination of sources and/or manufacturing facilities, discovery and remove of critical personnel, discovery and removal of employed devices, or anything else that has the end effect of either lowing the value or raising the cost of employing IEDs as an insurgent or terrorist weapons of choice. The Task Force will have four primary objectives: assess the current state of the art of allied forces in countering adversary use of IEDs in operations such as OIF; recommend a mid-to-long term set of integrated activities aimed at improving the state of the art in reducing the effect of IEDs over the next three to ten years; provide recommendations on short term (over the next six months to three years) incremental improvements in U.S. forces' ability to counter or reduce the effectiveness of IEDs, and identify any synergies that may exist between current counter-IED and countermine efforts.

In accordance with section 10(d) of the Federal Advisory Committee Act, Public Law 92-463, as amended (5 U.S.C. App. 2), it has been determined that these Defense Science Board Task Force meetings concern matters listed in 5 U.S.C. 552b(c)(1) and that, accordingly, these meetings will be closed to the public.

Dated: May 17, 2005.
Jeannette Owings-Ballard,
OSD Federal Register Liaison Officer, Department of Defense.

[FR Doc. 05-10157 Filed 5-19-05; 8:45 am]

BILLING CODE 5001-06-M